DEPARTMENT OF COMMERCE

National Oceanic and Atmospheric Administration

[I.D. 042001A]

Western Alaska Community Development Quota (CDQ) Program

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before June 25, 2001.

ADDRESSES: Direct all written comments to Madeleine Clayton, Departmental Paperwork Clearance Officer, Department of Commerce, Room 6086, 14th and Constitution Avenue NW, Washington, DC 20230 (or via Internet at MClayton@doc.gov).

FOR FURTHER INFORMATION CONTACT: Requests for additional information or copies of the information collection instrument(s) and instructions should be directed to Obren Davis, F/AKR2, P.O. Box 21668, Juneau, AK 99802-1668 (phone 907-586-7241).

SUPPLEMENTARY INFORMATION:

I. Abstract

The purpose of the CDQ program is to allocate a portion of the quotas for certain species to Western Alaska communities so that these communities can start and support regionally-based commercial seafood or other fishery-related businesses. In order to obtain an allocation, a community must submit a Community Development Plan, file any necessary amendments to the Plan and submit various reports to allow tracking of activities, including the amount of fish caught as part of the quota. NOAA needs the information to manage the program and to insure that the CDQ program is accomplishing its intended purposes and to track quotas.

II. Method of Collection

Delivery and catch reports may be submitted electronically, using either NOAA-supplied or respondent’s software. These reports may also be faxed. Notifications are provided in person to an observer on-site or by phone or radio. All other requirements are met by submission of paper forms or paper documents that comply with the CDQ regulations.

III. Data

OMB Number: 0648-0269.

Form Number: None.

Type of Review: Regular submission.

Affected Public: Not-for-profit institutions, business or other for-profit organizations, and state, local, or tribal government.

Estimated Number of Respondents: 85.

Estimated Time Per Response: 520 hours for a CDP proposal, 40 hours for an annual CDP report, 20 hours for an annual CDP budget report, 8 hours for an annual CDP budget reconciliation, report, 8 hours for a substantial amendment to a CDP, 4 hours for a technical amendment to a CDP, 1 hour for a CDQ delivery report, 15 minutes for a CDQ catch report, 2 minutes for a shoreside processor to provide notification of a CDQ delivery, 2 minutes for vessels to provide notifications to observers prior to hauls or sets.

Estimated Total Annual Burden Hours: 3,746.

Estimated Total Annual Cost to Public: $1,000.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 18, 2001.
Gwellnar Banks,
Management Analyst, Office of the Chief Information Officer.

[FR Doc. 01-10263 Filed 4-24-01; 8:45 am]

BILLING CODE 3510-22-S